DEPARTMENT OF COMMERCE

National Oceanic and Atmospheric Administration

RIN 0648-XC588

Marine Mammals; File No. 17344

AGENCY: National Marine Fisheries Service (NMFS), National Oceanic and Atmospheric Administration (NOAA), Commerce.

ACTION: Notice; issuance of permit.

SUMMARY: Notice is hereby given that a permit has been issued to Samuel Wasser, Ph.D., University of Washington, Department of Biology, P.O. Box 351800, Seattle, WA 98195 to conduct research on killer whales (Orcinus orca).

ADDRESSES: The permit and related documents are available for review upon written request or by appointment in Permits and Conservation Division, Office of Protected Resources, NMFS, 1315 East-West Highway, Room 13705, Silver Spring, MD 20910; phone (301) 427-8401; fax (301) 713-0376.

FOR FURTHER INFORMATION CONTACT: Courtney Smith or Jennifer Skidmore, (301) 427-8401.

SUPPLEMENTARY INFORMATION: On April 10, 2013, notice was published in the Federal Register (78 FR 21347) that a request for a permit to conduct research on killer whales had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226).

The permit authorizes research on killer whales of the endangered Eastern North Pacific Southern Resident stock in waters of Washington, including the San Juan Islands and Puget Sound. The objective of the research is to use noninvasive physiological and genetic measures to examine the impacts of the three major threats to this stock: (1) Reduced prey ability; (2) excessive exposures to environmental contaminants; and (3) disturbance from private and commercial vessel traffic. The primary research method is the collection of opportunistic fecal samples, which would be scooped from the water column and then analyzed for genetics, hormones, and contaminants. Each year, the entire population of Southern Resident killer whales (currently estimated at 80 individuals) would be approached up to six times for photo-identification and fecal sampling. Fifteen killer whales of the Eastern North Pacific transient stock may also be approached annually for the same activities. The permit would be valid for five years.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: July 21, 2014.
Julia Harrison,
Chief, Permits and Conservation Division, Office of Protected Resources, National Marine Fisheries Service.

[FR Doc. 2014-17525 Filed 7-24-14; 8:45 am]

BILLING CODE 3510-22-P